DEPARTMENT OF DEFENSE

48 CFR Parts 202, 204, 207, 239, 250, and 252 and Appendix G to Chapter 2

Defense Federal Acquisition Regulation Supplement; Technical Amendments

AGENCY: Department of Defense (DoD).

ACTION: Final rule.

SUMMARY: DoD is making technical amendments to the Defense Federal Acquisition Regulation Supplement to update activity names and addresses, references, and administrative information.

EFFECTIVE DATE: March 31, 2003.

FOR FURTHER INFORMATION CONTACT: Ms. Michele Peterson, Defense Acquisition Regulations Council, OUSD(AT&L)DPAP(DAR), IMD 3C132, 3062 Defense Pentagon, Washington, DC 20301-3062. Telephone (703) 602-0311; facsimile (703) 602-0350.

List of Subjects in 48 CFR Parts 202, 204, 207, 239, 250, and 252

Government procurement.

Michele P. Peterson,
Executive Editor, Defense Acquisition Regulations Council.

Therefore, 48 CFR parts 202, 204, 207, 239, 250, and 252 and Appendix G to chapter 2 are amended as follows:

1. The authority citation for 48 CFR Parts 202, 204, 207, 239, 250, and 252 and Appendix G to subchapter I continues to read as follows:

Authority: 41 U.S.C. 421 and 48 CFR chapter 1.

PART 202—DEFINITIONS OF WORDS AND TERMS

202.101 [Amended]

2. Section 202.101 is amended in the definition of “Contracting activity”, under the heading “AIR FORCE”, by adding, after the entry “Air Force Materiel Command”, the entry “Air Force Reserve Command”.

PART 204—ADMINISTRATIVE MATTERS

3. Section 204.7202-1 is amended by revising paragraph (b)(2)(i)(D) to read as follows:

204.7202-1 CAGE codes.

* * * * *

(b) * * *

(2) * * *

(i) * * *

(D) The Internet to access the CAGE Lookup Server at http://www.dlis.dla.mil/cage_welcome.asp.

* * * * *

PART 207—ACQUISITION PLANNING

4. Section 207.103 is amended by revising paragraph (h)(i)(A) to read as follows:

207.103 Agency-head responsibilities.

* * * * *

(h) * * *

(i) * * *

(A) Must submit the acquisition plan to the SMCA at the following address: Program Executive Officer, Ammunition, ATTN: SFAE-AMO, Building 171, Picatinny Arsenal, NJ 07806-5000. Telephone: Commercial (973) 724-7101; DSN 880-7101;

* * * * *

PART 239—ACQUISITION OF INFORMATION TECHNOLOGY

239.7302 [Amended]

5. Section 239.7302 is amended in paragraph (b)(2)(ii), in the second sentence, by adding, after “Program”, the parenthetical “(DARMP)”.

PART 250—EXTRAORDINARY CONTRACTUAL ACTIONS

250.102-70 [Amended]

6. Section 250.102-70 is amended by removing “2410b” and adding in its place “2410(b)”.

PART 252—SOLICITATION PROVISIONS AND CONTRACT CLAUSES

252.232-7003 [Amended]

7. Section 252.232-7003 is amended in paragraph (a)(2), in the second sentence, by removing “Facsmile” and adding in its place “Facsimile”.

APPENDIX G—ACTIVITY ADDRESS NUMBERS

8. Appendix G to Chapter 2 is amended in Part 2, by adding, in alpha-numerical order, entry “DABM16” to read as follows:

APPENDIX G TO CHAPTER 2—ACTIVITY ADDRESS NUMBERS

* * * * *

PART 2—ARMY ACTIVITY ADDRESS NUMBERS

* * * * *

DABM16 U.S. Army Central Command—Afghanistan and Uzbekistan, Director of Joint Contracting Office BAF, APO, AE 09354

* * * * *

9. Appendix G to Chapter 2 is amended in Part 8, by adding, in alpha-numerical order, entry “NMA501” to read as follows:

PART 8—NATIONAL IMAGERY AND MAPPING AGENCY ACTIVITY ADDRESS NUMBERS

* * * * *

NMA501 National Imagery and Mapping Agency, Acquisition Technology, 45479 Holiday Drive, Sterling, VA 20166-9411 (ZM51)

[FR Doc. 03-7530 Filed 3-28-03; 8:45 am]

BILLING CODE 5001-08-P